DEPARTMENT OF ENERGY

Environmental Management Site-Specific Advisory Board, Paducah

AGENCY: Department of Energy.

ACTION: Notice of cancellation of open meeting.

SUMMARY: On December 23, 2011, the Department of Energy (DOE) published a notice of open meeting announcing a meeting on January 19, 2012, of the Environmental Management Site-Specific Advisory Board, Paducah. This notice announces the cancellation of this meeting. The meeting is being cancelled because the board will not have a quorum due to scheduling conflicts by members. The next regular meeting will be held on February 16, 2012.

DATES: The meeting scheduled for January 19, 2012, announced in the December 23, 2011, issue of the Federal Register (FR Doc. 2011-32913, 76 FR 80355), is cancelled. The next regular meeting will be held on February 16, 2012.

FOR FURTHER INFORMATION CONTACT: Reinhard Knerr, Deputy Designated Federal Officer, Department of Energy Paducah Site Office, Post Office Box 1410, MS-103, Paducah, Kentucky 42001; Phone: (270) 441-6825.

Issued at Washington, DC, on January 12, 2012.
LaTanya R. Butler,
Acting Deputy Committee Management Officer.

[FR Doc. 2012-831 Filed 1-12-12; 4:15 pm]

BILLING CODE 6405-01-P